DEPARTMENT OF AGRICULTURE

Animal and Plant Health Inspection Service

[Docket No. APHIS-2006-0063]

Notice of Request for Approval of an Information Collection; Swine 2006 Study

AGENCY: Animal and Plant Health Inspection Service, USDA.

ACTION: New information collection; comment request.

SUMMARY: In accordance with the Paperwork Reduction Act of 1995, this notice announces the Animal and Plant Health Inspection Service's intention to initiate a new information collection activity to support the National Animal Health Monitoring System's national Swine 2006 Study.

DATES: We will consider all comments that we receive on or before July 25, 2006.

ADDRESSES: You may submit comments by either of the following methods:

Federal eRulemaking Portal: Go to http://www.regulations.gov and, in the lower “Search Regulations and Federal Actions” box, select “Animal and Plant Health Inspection Service” from the agency drop-down menu, then click on “Submit.” In the Docket ID column, select APHIS-2006-0063 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0063, Regulatory Analysis and Development, PPD, APHIS, Station 3A-03.8, 4700 River Road Unit 118, Riverdale, MD 20737-1238. Please state that your comment refers to Docket No. APHIS-2006-0063.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Swine 2006 Study, contact Mr. Chris Quatrano, Management and Program Analyst, Centers for Epidemiology and Animal Health, VS, APHIS, 2150 Centre Avenue, Building B MS 2E6, Fort Collins, CO 80526; (970) 494-7207. For copies of more detailed information on the information collection, contact Mrs. Celeste Sickles, APHIS' Information Collection Coordinator, at (301) 734-7477.

SUPPLEMENTARY INFORMATION: Title: National Animal Health Monitoring System; Swine 2006 Study.

OMB Number: 0579-XXXX.

Type of Request: Approval of a new information collection.

Abstract: The Animal and Plant Health Inspection Service (APHIS) of the United States Department of Agriculture is authorized, among other things, to protect the health of our Nation's livestock and poultry populations by preventing the introduction and interstate spread of serious diseases and pests of livestock and for eradicating such diseases from the United States when feasible. In connection with this mission, the Animal and Plant Health Inspection Service (APHIS) operates the National Animal Health Monitoring System (NAHMS), which collects, on a national basis, statistically valid and scientifically sound data on the prevalence and economic importance of livestock and poultry diseases and associated risk factors.

NAHMS' national studies have evolved into a collaborative industry and government initiative to help determine the most effective means of preventing and controlling diseases of livestock. APHIS is the only agency responsible for collecting national data on livestock health. Participation in any NAHMS study is voluntary, and all data are confidential.

The Swine 2006 Study is part of an ongoing series of NAHMS studies on the U.S. swine population. The first NAHMS swine study was performed in 1990. This study, the National Swine Survey, was the first statistically valid, national on-farm data collection by NAHMS. Eighty-one percent of the U.S. swine herd was represented in that study. Subsequent studies on the U.S. swine industry were performed in 1995 and 2000.

NAHMS will initiate the study, consisting of two components: A large-enterprise survey and a small-enterprise survey.

The large-enterprise component will collect information representing a large proportion of the U.S. swine industry. The study will be conducted via personal interview on farms with 100 or more head of swine in 17 States. The States include: Arkansas, Colorado, Illinois, Indiana, Iowa, Kansas, Michigan, Minnesota, Missouri, Nebraska, North Carolina, Ohio, Oklahoma, Pennsylvania, South Dakota, Texas, and Wisconsin. This 17-State target sample of 5,000 farms represents 94 percent of the U.S. swine inventory on farms with 100 or more hogs, as reported by the National Agricultural Statistics Service. The farms will be surveyed to collect information to meet the following objectives:

Determine trends in swine management practices related to inventories, housing practices, disease prevention, and mortality for four levels of production: Gestation, farrowing, nursery, and grow/finish.

Determine the prevalence of and risk factors for respiratory, neurologic, gastrointestinal and systemic pathogens found in nursery and grow/finish aged pigs and examine vaccine and antibiotic usage by pork producers to control diseases and production parameters.

Determine the prevalence of nonambulatory conditions and risk factors causing swine to be nonambulatory.

Identify production practices adopted by producers to reduce nutrient content in manure and to describe current manure and nutrient management systems used on operations.

Determine changes in management practices affecting pork safety and animal health in swine operations from 1990, 1995, and 2000, to 2006.

APHIS will use the information collected in the large-enterprise component to examine trends in swine health management relating to management practices, infection control, and antimicrobial usage.

The small-enterprise component of the study will be conducted via mail survey with a telephone follow-up for non-respondents. The 4,000 producer sample will primarily contain farms with 1-99 head of swine in 31 States. The States include Alabama, Arizona, Arkansas, California, Colorado, Florida, Georgia, Hawaii, Illinois, Indiana, Iowa, Kansas, Louisiana, Michigan, Minnesota, Mississippi, Missouri, Nebraska, New Jersey, New Mexico, New York, North Carolina, Ohio, Oklahoma, Pennsylvania, South Carolina, South Dakota, Tennessee, Texas, Washington, and Wisconsin. States were selected based on risk factors for classical swine fever and pseudorabies. While these States represent a very high proportion of the swine industry, information collected will represent a fraction (mostly operations with 1-99 head of swine) of the total inventory in these States. This 31-State target sample of 4,000 small-enterprise farms will be surveyed to collect information to meet the following objectives:

Determine swine health management practices related to disease prevention and mortality.

Determine biosecurity practices in use.

Characterize small enterprise production practices.

APHIS will use the information collected in the small-enterprise component to describe health, biosecurity, and animal movement practices, and enhance the surveillance programs for classical swine fever and pseudorabies.

APHIS will use the information collected from both components of the Swine 2006 Study to prepare descriptive reports and information sheets that will be disseminated to animal health officials, swine producers, stakeholders, and academia.

We are asking OMB to approve our use of this information collection activity for 3 years. The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.0192041 hours per response.

Respondents: Swine producers in 31 States.

Estimated annual number of respondents: 5,803.

Estimated annual number of responses per respondent: 2.1176977.

Estimated annual number of responses: 12,289.

Estimated total annual burden on respondents: 12,525 hours. (Due to averaging, the total annual burden hours may not equal the product of the annual number of responses multiplied by the reporting burden per response.)

All responses to this notice will be summarized and included in the request for OMB approval. All comments will also become a matter of public record.

Done in Washington, DC, this 22nd day of May 2006.
Elizabeth E. Gaston,
Acting Administrator, Animal and Plant Health Inspection Service.

[FR Doc. E6-8140 Filed 5-25-06; 8:45 am]

BILLING CODE 3410-34-P